DEPARTMENT OF COMMERCE

International Trade Administration

Aerospace Executive Service Trade Mission at the Singapore Airshow 2014

AGENCY: International Trade Administration, Department of Commerce.

ACTION: Notice.

I. Mission Description

The United States Department of Commerce, International Trade Administration, U.S. and Foreign Commercial Service is organizing an Aerospace Executive Service Trade Mission (AESTM) to Singapore in conjunction with the Singapore Airshow 2014 (http://www.singaporeairshow.com.sg).

The AESTM will include representatives from a variety of U.S. aerospace-industry manufacturers and service providers. The mission participants will be introduced to international agents, distributors and end-users whose capabilities are targeted to each participant's needs. This year a key mission goal is to recruit U.S. firms that have not previously participated in this AESTM to the Singapore Airshow.

Mission participants will also be briefed by key local industry leaders who can advise on local market conditions and opportunities.

In addition, the Commercial Service will offer its AsiaNow Showtime program during the Singapore Airshow, where mission participants can meet one-on-one with Commercial Service aerospace and defense industry specialists from various markets in Asia. The industry specialists will be on-hand to discuss market trends and opportunities in their respective markets.

II. Commercial Setting

The Singapore Airshow is Asia's largest aerospace and defense event and is one of the top three air shows in the world, serving as an international marketplace and networking platform for the global aerospace community. Encompassing all civil and military sectors of the international aerospace industry, the Singapore Airshow is the most prominent platform in the Asia-Pacific region for companies to showcase aerospace products and services.

The Asia-Pacific region is widely considered the most promising market for the aerospace industry worldwide. As a leading global aviation hub in Asia Pacific, Singapore (the United States' 13th largest export market in 2012) can serve as an excellent base for taking advantage of growth opportunities stemming from the region's brisk international trade, tourism and investment climate. U.S. aerospace firms looking to establish or expand business in Singapore and other markets in this dynamic region stand to benefit from participating in the Singapore Airshow through the AESTM.

In addition to hosting the Airshow, Singapore is the regional leader in aerospace maintenance, repair and overhaul (MRO), manufacturing, and research and development. Since 1992, Singapore's aerospace industry has grown at an average annual rate of 10% to become the most comprehensive MRO hub in Asia.

Aerospace is one of the fastest-growing industries in Singapore, and the long-term business outlook remains positive. According to business consulting firm Frost & Sullivan, the Asia-Pacific aviation industry is experiencing a faster recovery from its undesirable passenger load factor than anticipated. In fact, Asia-Pacific economies are leading the pace of recovery in the global aviation sector: The Asia-Pacific region is expected to account for approximately 40% (U.S. $270 billion) of the global airline revenue by 2020. The air freight and cargo business has also experienced consistent growth in the Asia-Pacific region. Also, the rising GDP per capita across Asia-Pacific and the increasing level of disposable income of the population will lead to an increase in air travel and therefore higher demand on cabin interiors. Singapore is particularly well-equipped to capture the demand from aviation-related services from this market given its MRO hub status, which will translate into greater opportunities for American suppliers to sell to this lucrative market and beyond.

III. Mission Goals

The mission's goal for the Aerospace Executive Service (AES) at the Singapore Airshow is to facilitate an effective presence for small to medium-sized U.S. companies without the major expenses associated with purchasing and staffing exhibition space. The AES will enable U.S. aerospace companies to familiarize themselves with this important air show, conduct market research, and explore export opportunities through pre-screened meetings with potential partners. It will give the U.S. companies a small presence at the show, with an office infrastructure environment and the support of knowledgeable U.S. Commercial Service staff focused on furthering company-specific objectives. This mission also seeks to recruit a minimum of eight participants new to the AESTM at the Singapore Airshow.

IV. Mission Scenario

Within the U.S. Pavilion at the 2014 Singapore Airshow, the Commercial Service will maintain a 82.75-square-meter booth that will include 60 square meters of kiosk space for the mission participants, where each participant may display company literature and conduct meetings with visitors to the air show, including buyer delegations from the Asia-Pacific region recruited by Commercial Service staff as part of the AsiaNow program. The Commercial Service booth will also house an area for meetings with Commercial Service staff and a Business Information Office (BIO) reception area (22.75 square meters). Commercial Service staff will be available to provide market information and offer logistical assistance to AESTM participants throughout the trade mission duration at the Singapore Airshow.

In summary, participation in the AESTM includes:

• Pre-show breakfast briefing on February 10;

• Daily transportation to and from the designated hotel and Singapore Airshow;

• Pre-scheduled meetings with potential partners, distributors, and end users recruited by the Commercial Service;

• One show entry pass per company representative;

• Participation in U.S. Exhibitors Welcome Reception;

• One invitation to the U.S. Ambassador's reception per participant;

• Access to Official U.S. Pavilion/BIO amenities, including meeting area and shared business center when not in use for AsiaNow one-on-one appointments;

• Individual kiosk space (4.0 m²) within the U.S. Pavilion for displaying company marketing materials and conducting meetings;

• Copy of the official 2014 Singapore Airshow Exhibitor's Directory;

• Meetings with Commercial Service aerospace and defense industry specialists from U.S. Embassies and Consulates across the Asia-Pacific region;

• On site logistical support by U.S. Commercial Service staff.

V. Proposed Timetable

Monday, February 10, 2014

Briefing at the designated hotel on country/regional market and AESTM event logistics

One-on-one business matchmaking appointments

Evening welcome reception for U.S. exhibitors

Tuesday, February 11, 2014

Attend U.S. Pavilion opening with VIP delegates at Singapore Airshow

Participate in Singapore Airshow

Wednesday, February 12, 2014

Participate in Singapore Airshow

Evening U.S. Ambassador's Reception

Thursday, February 13-Friday, February 14, 2014

AsiaNow Showtime meetings, participants walk show floor, and conduct any follow-up meetings

Friday afternoon AES Trade Mission participants' debrief with USCS staff

Friday evening no host dinner (optional)

VI. Participation Requirements

All parties interested in participating in the AESTM at the Singapore Airshow must complete and submit an application package for consideration by the Department of Commerce. All applicants will be evaluated on their ability to meet certain conditions and best satisfy the selection criteria as outlined below. A maximum of 15 companies will be selected to participate in the mission from the applicant pool. As a condition of the Singapore Airshow organizer on Commercial Service use of booth space at this event, half of the mission participation (at least eight participants) is reserved for companies that have not previously participated in the AESTM at the Singapore Airshow. These will be selected on a first-come, first-served basis. The remaining participants, up to the maximum of 15, may include companies that have previously participated in the AESTM, also to be selected on a first-come, first-served basis. U.S. companies already doing business in Singapore or elsewhere in the Asia-Pacific region as well as U.S. companies seeking to enter those markets for the first time may apply.

Fees and Expenses

After a company has been selected to participate on the mission, a payment to the Department of Commerce in the form of a participation fee is required. The participation fee will be $8,900 for large firms and $8,400 for a small or medium-sized enterprise (SME).* The fee for each additional firm representative (large firm or SME) is $300. The participation fee is inclusive of registration for exhibiting at the Singapore Airshow. Expenses for travel to and from Singapore, lodging, meals, and incidentals will be the responsibility of each mission participant.

* An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. The applicant must also state whether the company has previously participated in the AESTM at the Singapore Airshow. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

• Each applicant's products must meet the Singapore Airshow trade fair rules, which can be found at http://www.singaporeair show.com.sg/.

Selection Criteria for Participation

Selection will be based on the following criteria:

• Suitability of the company's products or services to the Asia Pacific markets.

• Applicant's potential for business in Asia Pacific, including likelihood of exports resulting from the mission.

• Consistency of the applicant's goals and objectives with the stated scope of the mission.

As explained above, as a condition of the Singapore Airshow organizer on Commercial Service use of booth space at this event, half of the mission participation (at least eight participants) is reserved for companies that have not previously participated in the AESTM at the Singapore Airshow. Previous participation in the AESTM at the Singapore Airshow will be considered in making selection decisions for these eight opportunities to participate. Previous experience will not be considered when selecting applicants for the remaining seven opportunities.

Referrals from political organizations and any documents containing references to partisan political activities (including political contributions) will be removed from an applicant's submission and not considered during the selection process.

VII. Timeframe for Recruitment and Applications

Mission recruitment will be conducted in an open and public manner, including publication in the Federal Register and posting on the Commerce Department trade missions calendar— http://export.gov/trademissions/— and other Internet Web sites, publication in domestic trade publications and association newsletters, mailings from internal mailing lists, faxes to internal aerospace clients, emails to aerospace distribution lists, and promotion at industry meetings, symposia, conferences, trade shows, and other events. The ITA Aerospace and Defense Technology Team members in U.S. Export Assistance Centers will have the lead in recruiting the AESTM.

Recruitment for the mission will begin immediately and conclude no later than November 30, 2013. The mission will open on a first-come, first-served basis, as outlined above in the Participation Requirements section. Applications received after November 30, 2013, will be considered only if space and scheduling constraints permit.

Contacts
Aerospace and defense technology team: | U.S. and foreign commercial service in Singapore:
Jason Sproule, Irvine U.S. Export Assistance Center, 2302 Marin Court, Suite 315, Irvine, CA 92612, Tel: (949) 660-1688/Fax: (949) 660-1338, Email: Jason.Sproule@trade.gov | Hawcheng Ng, American Embassy, 27 Napier Road, Singapore 258508, Tel. 011-(65) 6476-9037, Fax 011-(65) 6476-9080, Email: Hawcheng.Ng@trade.gov.

Elnora Moye,
Trade Program Assistant.

[FR Doc. 2013-15340 Filed 6-26-13; 8:45 am]

BILLING CODE 3510-FP-P